DEPARTMENT OF TRANSPORTATION

Federal Highway Administration

Environmental Impact Statements: National Summary of Rescinded Notices of Intent

AGENCY: Federal Highway Administration (FHWA), DOT.

ACTION: Notice.

SUMMARY: The FHWA is issuing this notice to advise the public that 11 States have rescinded Notices of Intent (NOIs) to prepare 21 Environmental Impact Statements (EISs) for proposed highway projects. The FHWA Division Offices, in consultation with the State departments of transportation (State DOTs), determined that six projects were no longer viable and have formally cancelled the projects. No further Federal resources will be expended on these projects; the environmental review process has been terminated. Seven projects have been reduced in scope or found not to have significant impacts and now meet the criteria for an Environmental Assessment (EA) or a Categorical Exclusion (CE). Six projects are currently undergoing re-scoping. After additional study, two individual projects were combined into a new single corridor project and a new EIS will be prepared.

FOR FURTHER INFORMATION CONTACT: Kreig Larson, Office of Project Development and Environmental Review, (202) 366-2056, or Janet Myers, Office of the Chief Counsel, (202) 366-2019; Federal Highway Administration, 1200 New Jersey Avenue, SE., Washington, DC 20590.

SUPPLEMENTARY INFORMATION:

Electronic Access

An electronic copy of this document may be downloaded by accessing the Federal Register's home page at: http://www.archives.gov and the Government Printing Office's Web page at http://www.gpoaccess.gov/nara.

Background

The FHWA, as lead Federal agency under the National Environmental Policy Act (NEPA) and in furtherance of its oversight and stewardship responsibilities under the Federal-aid highway program, periodically requests that its Division Offices review, with the State DOTs, the status of all EISs and place those projects that are not actively progressing in a timely manner in an inactive project status. The FHWA maintains lists of active and inactive EIS projects on its Web site at http://www.environment.fhwa.dot.gov/. The FHWA has determined that inactive projects that are no longer a priority or that lack financial resources should be rescinded with a Federal Register notice notifying the public that project activity has been terminated. This notice covers the time period since the last summary was issued on July 6, 2010, and published in the Federal Register at 75 FR 44044 (July 27, 2010). As always, FHWA encourages State DOTs to work with their FHWA Division Office to determine when it is most prudent to initiate an EIS in order to best balance available resources as well as the expectations of the public.

The FHWA is issuing this notice to advise the public that at the request of 11 States (California, Idaho, Iowa, Maine, Mississippi, New Mexico, New York, Tennessee, Texas, Virginia, and Washington) the FHWA recently rescinded previously issued NOIs for 21 EISs for proposed highway projects. A listing of these projects, general location, original NOI date of publication in the Federal Register, and the date that the NOI was formally rescinded by notice published in the Federal Register, is provided below.

The FHWA Division Offices, in consultation with the State DOTs, determined that six of these projects were no longer viable projects and have formally cancelled those projects. The projects are: The Skowhegan transportation and accessibility project in Somerset County, Maine; the I-10/SR-25 connector in Harrison and Stone Counties, Mississippi; US-49/I-20 interchange in Ranking County, Mississippi; US-82/I-69 connector in Washington and Bolivar Counties, Mississippi; proposed SR-15 near Beaumont, Harrison, George, Greene, Jackson, Perry, and Stone, Mississippi; and the Southeastern Parkway and Greenbelt in Chesapeake and Virginia Beach, Virginia.

The FHWA Division Offices, in consultation with the State DOTs, determined that seven additional projects would be reduced in scope or are expected not to have significant impacts. In California, the proposed 24th Street Improvement Project in Kern County has been reduced in scope and now meets the criteria for an EA. New Mexico's Northwest Loop project in Sandoval and Bernalillo Counties has been reduced in scope and is now eligible for a CE. The Bridge Rehabilitation and Interchange Improvements Project in Queens County, New York, has been reduced in scope and will be eligible for a CE. Route 475 in Knoxville, Loudon, Knox, and Anderson Counties, Tennessee, now expects a significantly smaller traffic volume and will no longer require an EIS. Seattle, Washington's Seattle Ferry Terminal (Colman Dock) project has been reduced in scope and will require an EA or CE. The Forest Road 56 improvement project in King County, Washington, has been reduced in scope and an EA will be published. The extension of SR-374 in Montgomery County, Tennessee, is not expected to have a significant environmental impact and an EA will now be prepared.

Six projects are currently undergoing re-scoping and are expected to require either an EA or CE when re-scoping is complete. These projects include: The SH-44 project in Ada and Canyon Counties, Idaho; the roadway improvement project in Warren County, Iowa; SH-71 in Travis County, Texas; US-181/SH-286 in Nueces County, Texas; US-181/SH-286 in Cameron County, Texas; and the proposed I-69 extension near Laredo and the Lower Rio Grande Valley, Texas.

In addition, after further study and interagency coordination, it was determined that the SR138 and SR18 projects in Los Angeles County and San Bernardino County, California, should be combined into one project. A new NOI was issued and an EIS will be prepared.

State | Project name | Original NOI date | Rescinded NOI date
CA | New State Route 138 project in Los Angeles County | 10/12/07 | 9/24/2010
CA | High Desert Corridor project, State Route 18, in San Bernardino County | 1/27/2009 | 9/24/2010
CA | 24th Street Improvement Project in Kern County | 4/23/2008 | 11/10/2010
ID | State Highway 44 in Ada and Canyon County | 8/28/2007 | 3/17/2011
IA | Roadway improvement project in Warren County | 4/26/2007 | 8/4/2010
ME | The Skowhegan transportation and accessibility project in Somerset County | 11/29/2005 | 9/3/2010
MS | I-10/SR-25 connector in Harrison and Stone Counties | 8/12/2005 | 11/22/2010
MS | US-49/I-20 interchange in Ranking County | 5/22/2009 | 11/30/2010
MS | US-82/I-69 connector in Washington and Bolivar Counties | 11/29/2005 | 12/1/2010
MS | SR-15 near Beaumont, Harrison, George, Greene, Jackson, Perry, and Stone | 5/28/2009 | 12/28/2010
NM | Northwest Loop project in Sandoval and Bernalillo Counties | 1/16/2009 | 4/15/2011
NY | Bridge Rehabilitation and Interchange Improvements Project, Queens County | 3/12/2004 | 9/7/2010
TN | Route 475 in Knoxville, Loudon, Knox, and Anderson Counties | 11/4/2005 | 9/21/2010
TN | SR-374 extension in Montgomery County | 4/21/2010 | 1/19/2011
TX | SH-71 in Travis County | 6/2/2008 | 9/7/2010
TX | US-181/SH-286 in Cameron County | 4/6/2007 | 10/15/2010
TX | US-181/SH-286 in Nueces County | 4/6/2007 | 11/3/2010
TX | I-69 extension near Laredo and the Lower Rio Grande Valley | 1/15/2004 | 1/25/2011
VA | Southeastern Parkway and Greenbelt in Chesapeake and Virginia Beach | 12/24/2003 | 11/17/2010
WA | Seattle Ferry Terminal (Colman Dock) in Seattle | 3/17/2006 | 2/10/2011
WA | Forest Road 56 in King County | 4/27/2001 | 2/28/2011

(Catalog of Federal Domestic Assistance Program Number 20.205, Highway Planning and Construction. The regulations implementing Executive Order 12372 regarding intergovernmental consultation on Federal programs and activities apply to this program.)

Issued on: May 23, 2011.
Victor M. Mendez,
Federal Highway Administrator.

[FR Doc. 2011-13541 Filed 5-31-11; 8:45 am]

BILLING CODE 4910-22-P